DEPARTMENT OF VETERANS AFFAIRS

National Commission on VA Nursing

Notice of Meeting

The Department of Veterans Affairs (VA) gives notice under Pub. L. 92-463 (Federal Advisory Committee Act) that the National Commission on VA Nursing will hold its third meeting on October 24-25, 2002 at the Sheraton Pentagon South Alexandria, 4641 Kenmore Ave, Alexandria, VA 22304. On October 24, the meeting will begin at 9 a.m. and adjourn at 5 p.m. On October 25, the meeting will begin at 8 a.m. and adjourn at 2 p.m. The meeting is open to the public.

The purpose of the Commission is to provide advice and make recommendations to Congress and the Secretary of VA regarding legislative and organizational policy changes to enhance the recruitment and retention of nurses and other nursing personnel in VA. The Commission is required to submit to Congress and the Secretary of Veterans Affairs a report, not later than two years from May 8, 2002, on its findings and recommendations.

The Commission will meet to continue work on information gathering and analysis. On October 24, nursing data extracted from the 2001 VA Employee Survey will be presented and an update on Commission activities will be discussed. On October 25, sub-groups will make presentations on assignments from the previous meeting. The Commission will determine what additional information is needed and how it should be obtained.

Members of the public may direct written questions or submit prepared statements for review by the Commission in advance of the meeting to Ms. Oyweda Moorer, Director of the National Commission on VA Nursing, at Department of Veterans Affairs (108N), 810 Vermont Avenue, NW., Washington, DC 20420. Any member of the public wishing to attend the meeting should contact Ms. Stephanie Williams, Program Analyst at (202) 273-4944.

Dated: October 9, 2002.
By direction of the Secretary.
Nora E. Egan,
Committee Management Officer.

[FR Doc. 02-26244 Filed 10-15-02; 8:45 am]

BILLING CODE 8320-01-M